DEPARTMENT OF HOMELAND SECURITY

Coast Guard

33 CFR Part 117

[Docket No. USCG-2014-0059]

Drawbridge Operation Regulation; Willamette River, Portland, OR

AGENCY: Coast Guard, DHS.

ACTION: Notice of deviation from drawbridge regulation.

SUMMARY: The Coast Guard has issued a temporary deviation from the operating schedule that governs the Burlington Northern Santa Fe Railway Bridge, also known as the St. Johns RR Bridge, across the Willamette River, mile 6.9, at Portland, OR. The deviation is necessary to facilitate replacement of the frayed counterweight wire ropes for the lift mechanism of the bridge. This deviation allows the bridge to remain in the closed position during maintenance activities.

DATES: This deviation is effective from 7 a.m. on March 19, 2014 to 7 p.m. on April 15, 2014.

ADDRESSES: The docket for this deviation, [USCG-2014-0059] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Steven Fischer, Bridge Administrator, Coast Guard Thirteenth District; telephone 206-220-7282, email steven.m.fischer3@uscg.mil. If you have questions on viewing the docket, call Cheryl Collins, Program Manager, Docket Operations, telephone 202-366-9826.

SUPPLEMENTARY INFORMATION: Burlington Northern Santa Fe (BNSF) Railway requested this deviation to facilitate replacement of the frayed counterweight wire ropes for the lift mechanism of the bridge. The bridge, also known as the St. Johns RR Bridge, crosses the Willamette River at mile 6.9 and provides 54 feet of vertical clearance above Columbia River Datum 0.0, while in the closed position. Under normal operations this bridge opens on signal as required by 33 CFR 117.5. The deviation period is from 7 a.m. on March 19, 2014 to 7 p.m. on April 15, 2014. This deviation allows the lift span of the BNSF Railway Bridge across the Willamette River, mile 6.9, to remain in the closed position and need not open for maritime traffic during following four 12 hour periods: 7 a.m. to 7 p.m. on Wednesday, March 19, 2014; 7 a.m. to 7 p.m. on Monday, March 24, 2014; 7 a.m. to 7 p.m. on Thursday, March 27, 2014; and 7 a.m. to 7 p.m. on Tuesday, April 1, 2014. The bridge shall operate in accordance to 33 CFR 117.5 at all other times. BNSF will entertain requests from mariners to change the above listed schedule for emergent vessel arrivals or departures that are water level dependant given 72 hours advanced notice. BNSF contact is Ron Berry, who can be reached at (913) 551-4164. Waterway usage on this stretch of the Willamette River includes vessels ranging from commercial tug and barge to small pleasure craft.

Vessels which do not require a bridge opening may continue to transit beneath the bridge during this closure period. Due to the nature of work being performed the draw span will be unable to open for for emergencies. Mariners have been notified and will be kept informed of the bridge's operational status via the Coast Guard Notice to Mariners publication and Broadcast Notice to Mariners as appropriate so that vessels can arrange their transits to minimize any impact caused by the temporary deviation.

In accordance with 33 CFR 117.35(e), the drawbridge must return to its regular operating schedule immediately at the end of the effective period of this temporary deviation. This deviation from the operating regulations is authorized under 33 CFR 117.35.

Dated: February 10, 2014.
Steven M. Fischer,
Bridge Administrator, Thirteenth Coast Guard District.

[FR Doc. 2014-03882 Filed 2-21-14; 8:45 am]

BILLING CODE 9110-04-P